DEPARTMENT OF TRANSPORTATION

Research and Special Programs Administration

49 CFR Parts 171, 173, 174, 175, 176, 177, and 178

[Docket No. RSPA-98-4952 (HM-223)]

RIN 2137-AC68

Applicability of the Hazardous Materials Regulations to Loading, Unloading, and Storage; Extension of Comment Period and Announcement of Public Meetings

AGENCY: Research and Special Programs Administration (RSPA), DOT.

ACTION: Proposed rule; extension of time to file comments and public meeting announcement.

SUMMARY: On June 14, 2001, RSPA published a notice of proposed rulemaking to clarify the applicability of the Hazardous Materials Regulations to specific functions and activities, including hazardous materials loading, unloading, and storage operations. We are extending until November 30, 2001, the period for filing comments to the proposed rule. In addition, we are conducting two public meetings to facilitate public comment on the proposed rule. One public meeting is scheduled for September 14, 2001, in Washington, DC; a second public meeting is scheduled for October 30, 2001, in Diamond Bar, California.

DATES: Comments. Submit comments by November 30, 2001. To the extent possible, we will consider comments received after this date in making our decision on a final rule.

Public Meeting Dates. Two public meetings will be held—one on September 14, 2001, from 8:30 a.m. to 5:30 p.m. and another on October 30, 2001, from 9 a.m. to 5 p.m.

ADDRESSES: Written comments. Submit comments to the Dockets Management System, U.S. Department of Transportation, Room PL 401, 400 Seventh Street, SW., Washington, DC 20590-0001. Comments should identify Docket Number RSPA-98-4952 (HM-223) and be submitted in two copies. If you wish to receive confirmation of receipt of your written comments, include a self-addressed, stamped postcard. You may also e-mail comments by accessing the Dockets Management System web site at “http://dms.dot.gov/” and following the instructions for submitting a document electronically.

The Dockets Management System is located on the Plaza level of the Nassif Building at the Department of Transportation at the above address. You can review public dockets there between the hours of 9:00 a.m. and 5:00 p.m., Monday through Friday, except federal holidays. You can also review comments on-line at the DOT Dockets Management System web site at “http://dms.dot.gov/.”

Public Meetings. The September 14, 2001 public meeting will be held in Washington, DC in the Auditorium, Federal Aviation Administration National Headquarters, 800 Independence Avenue, SW., Washington, DC 20591. The October 30, 2001 public meeting will be held at the Headquarters Building, South Coast Air Quality Management, 21865 East Copley Drive, Diamond Bar, California 91765. For information on facilities or services for persons with disabilities or to request special assistance at the meetings, contact Mr. Michael Johnsen at 202-366-8553 as soon as possible.

FOR FURTHER INFORMATION CONTACT: Michael Johnsen (202) 366-8553, Office of Hazardous Materials Standards, Research and Special Programs Administration; or Susan Gorsky (202) 366-8553, Office of Hazardous Materials Standards, Research and Special Programs Administration. If you wish to speak at one of the public meetings, you should contact Mr. Johnsen.

SUPPLEMENTARY INFORMATION:

Background

On June 14, 2001, the Research and Special Programs Administration (RSPA, we) published a notice of proposed rulemaking (NPRM) (66 FR 32420) under Docket RSPA-98-4952 (HM-223) to clarify the applicability of the Hazardous Materials Regulations (HMR; 49 CFR Parts 171-180) to specific functions and activities, including hazardous materials loading and unloading operations and storage of hazardous materials during transportation. The HM-223 rulemaking has four overall goals. First, we want to maintain nationally uniform standards applicable to functions performed in advance of transportation to prepare hazardous materials for transportation. Second, we want to maintain nationally uniform standards applicable to transportation functions. Third, we want to distinguish functions that are subject to the HMR from functions that are not subject to the HMR. Finally, we want to clarify that facilities within which HMR-regulated functions are performed may also be subject to federal, state, or local regulations governing occupational safety and health or environmental protection.

To achieve these goals, the NPRM proposes to list in the HMR pre-transportation and transportation functions to which the HMR apply. Pre-transportation functions are functions performed to prepare hazardous materials for movement in commerce by persons who offer a hazardous material for transportation or cause a hazardous material to be transported. Transportation functions are functions performed as part of the actual movement of hazardous materials in commerce, including loading, unloading, and storage of hazardous materials that is incidental to their movement. The NPRM also proposes to clarify that “transportation in commerce,” for purposes of applicability of the HMR, begins when a carrier takes possession of a hazardous material and continues until the carrier delivers the package containing the hazardous material to its destination as indicated on shipping papers. In addition, the NPRM proposes to include in the HMR an indication that facilities at which functions regulated by the HMR occur may also be subject to applicable standards and regulations of other federal agencies and state, local, and tribal governments. Finally, the NPRM proposes to include in the HMR the statutory criteria under which non-federal governments may be precluded from regulating in certain areas under the preemption provisions of the federal hazardous materials transportation law (49 U.S.C. 5101 et seq.)

Public Meetings

To facilitate public comment on the NPRM, we are hosting two public meetings to discuss the proposed changes. The first public meeting is scheduled for September 14, 2001, in Washington, DC. The second public meeting will be in Diamond Bar, California, on October 30, 2001. To allow sufficient time to conduct the meetings and for interested parties to submit comments on the NRPM after the public meetings, we are extending the comment period until November 30, 2001.

The public meetings will provide an informal forum for interested persons to offer comments on the HM-223 NPRM. A transcript for each meeting will be prepared and submitted to the HM-223 docket. We anticipate significant public interest in this rulemaking; therefore, we ask that you limit your remarks to 10 minutes to assure that all participants have an opportunity to speak. The meetings may conclude earlier than scheduled if all persons wishing to offer comments have been heard.

If you plan to submit a written statement, you should submit 5 copies of the statement at the meeting. If you wish to speak at one of the public meetings, please contact Michael Johnsen at 202-366-8553 as soon as possible.

Issued in Washington, DC on July 30, 2001.
Robert A. McGuire,
Associate Administrator for Hazardous Materials Safety, Research and Special Programs Administration.

[FR Doc. 01-19335 Filed 8-1-01; 8:45 am]

BILLING CODE 4910-60-P